LEGAL SERVICES CORPORATION

Sunshine Act Meetings of the Board of Directors and Four of the Board's Committees

Times and Dates: The Legal Services Corporation Board of Directors and four of its Committees will meet on April 27-28, 2007 in the order set forth in the following schedule, with each meeting commencing shortly after adjournment of the immediately preceding meeting. Members of the public may attend the open portions or listen to them live by calling (toll-free) 1-877-352-5208. Those joining the meetings by telephone are requested to mute their telephones to eliminate background noises.

¹ Please note that the meetings will be held in the Central Time zone.

² The Operations & Regulations Committee meeting will be conducted over a two-day period and is noticed accordingly herein.

³ It is LSC's goal to begin the Board of Directors meeting at approximately 1 p.m., after a brief lunch break. Depending on the length of the preceding meetings, however, it is possible that the Board's meeting could begin earlier or later than 1 p.m.

Meeting Schedule
Friday, April 27, 2007 | Time ¹
1. Provision for the Delivery of Legal Services Committee (Provisions Committee) | 1:30 p.m.
2. Operations & Regulations Committee ² |
Saturday, April 28, 2007 | Time
3. Annual Performance Reviews Committee (Performance Reviews Committee) | 8:30 a.m.
4. Operations & Regulations Committee (continued) |
5. Finance Committee |
6. Board of Directors ³ |

Location: The Peabody Hotel, Three State Street, Little Rock, Arkansas.

Status of Meetings: Open, except as noted below.

• Status: April 28, 2007 Performance Reviews Committee Meeting—Closed. The meeting of the Performance Reviews Committee may be closed to the public pursuant to a vote of the Board of Directors authorizing the Committee to meet in executive session to consider and act on the performance evaluation of the LSC Inspector General for calendar year 2006. The closing will be authorized by the relevant provision(s) of the Government in the Sunshine Act [5 U.S.C. 552b(c)(6)] and the Legal Services Corporation's corresponding regulation, 45 CFR 1622.5(e). A verbatim written transcript of the session will be made. The transcript of any portions of the closed session falling within the relevant provision of the Government in the Sunshine Act [5 U.S.C. 552b(c)(6)] and the corresponding provision of LSC's implementing regulation [45 CFR 1622.5(e)] will not be available for public inspection. The transcript of any portions not falling within this provision will be available for public inspection. A copy of the General Counsel's Certification that the closing is authorized by law will be available upon request.

• Status: April 28, 2007 Board of Directors Meeting—Open, except that a portion of the meeting of the Board of Directors may be closed to the public pursuant to a vote of the Board of Directors to hold an executive session. At the closed session, the Board will consider and may act on the General Counsel's report on litigation to which the Corporation is or may become a party, and will receive a briefing from the Inspector General (IG).⁴ A verbatim written transcript of the session will be made. The transcript of any portions of the closed session falling within the relevant provision(s) of the Government in the Sunshine Act [5 U.S.C. 552b(c)(10)] and LSC's implementing regulation 45 CFR 1622.5(h) will not be available for public inspection. The transcript of any portions not falling within this provision will be available for public inspection.

⁴ Any portion of the closed session consisting solely of staff briefings does not fall within the Sunshine Act's definition of the term “meeting” and, therefore, the requirements of the Sunshine Act do not apply to such portion of the closed session. 5 U.S.C. 552(b)(a)(2) and (b). See also 45 CFR 1622.2 & 1622.3.

Matters to be Considered:

Friday, April 27, 2007

Provision for the Delivery of Legal Services Committee

Agenda

1. Approval of agenda.

2. Approval of the Committee's meeting minutes of January 19, 2007.

3. Staff Report on the LSC Private Attorney Involvement Action Plan—Help Close the Justice Gap: Unleash the Power of Pro Bono.

a. Consider and act on recommending proposed Resolutions to the Board and related materials on private attorney involvement.

b. Updates on other Action Plan activities.

4. Panel presentation on recruitment and retention challenges facing Arkansas LSC-funded programs.

Presenters:

• Jean Turner Carter—Executive Director, Center for Arkansas Legal Services (CALS).

• Lee Richardson—Executive Director, Legal Aid of Arkansas (LAA).

• Teresa Franklin—Staff Attorney at LAA receiving an LSC LRAP.

• Charles W. Goldner, Jr.—Dean and Professor of Law, UALR William H. Bowen School of Law.

5. Public comment.

6. Consider and act on other business.

7. Consider and act on adjournment of meeting.

Operations and Regulations Committee

Agenda

1. Approval of agenda.

2. Approval of the minutes of the Committee's March 20, 2007 meeting.

3. Consider and act on recommendation to the Board for the adoption of Employee Handbook.

4. Consider and act on whether to recommend to the Board for their consideration any or all of the following four resolutions offered by Director Bernice Phillips:

(a) Resolution Establishing the Board of Directors' Right of Access to Corporation Records;

(b) Resolution Clarifying the Authority of the Board Chairman and Committee Chairmen;

(c) Resolution Establishing That No Director Can Direct Staff to Withhold Corporation Records from Other Directors; and

(d) Resolution Giving the Board Unrestricted Access to Corporation Employees that Report to or Serve the Board.

5. Presentation by OIG on independent private accountants and OIG review of their work.

6. Status report on locality pay.

7. Consider and act on a 2007 regulatory agenda.

a. Staff Report.

b. OIG Comment.

c. Public Comment.

8. Consider and act on other business.

9. Other public comment.

10. Consider and act on adjournment of meeting.

Saturday, April 28, 2007

Annual Performance Reviews Committee

Agenda

Closed Session

1. Approval of agenda.

2. Approval of minutes of the Committee's meeting of January 20, 2007.

3. Consider and act on annual performance review of LSC Inspector General—Meet with Kirt West.

4. Consider and act on other business.

5. Consider and act on adjournment of meeting.

Operations & Regulations Committee (Continued)

Agenda

1. Approval of agenda.

2. Approval of the minutes of the Committee's March 20, 2007 meeting.

3. Consider and act on recommendation to the Board for the adoption of Employee Handbook.

4. Consider and act on whether to recommend to the Board for their consideration any or all of the following four resolutions offered by Director Bernice Phillips:

(a) Resolution Establishing the Board of Directors' Right of Access to Corporation Records;

(b) Resolution Clarifying the Authority of the Board Chairman and Committee Chairmen;

(c) Resolution Establishing That No Director Can Direct Staff to Withhold Corporation Records from Other Directors; and

(d) Resolution Giving the Board Unrestricted Access to Corporation Employees that Report to or Serve the Board.

5. Presentation by OIG on independent private accountants and OIG review of their work.

6. Status report on locality pay.

7. Consider and act on a 2007 regulatory agenda.

a. Staff Report.

b. OIG Comment.

c. Public Comment.

8. Consider and act on other business.

9. Other public comment.

10. Consider and act on adjournment of meeting.

Finance Committee

Agenda

1. Approval of agenda.

2. Approval of the minutes of the Committee's meeting of January 20, 2007.

3. Presentation by the Inspector General of the Fiscal Year 2006 Annual Financial Audit.

4. Consider and act on adoption of the Consolidated Operating Budget for FY 2007 and recommend Resolution #2007-004 to the full Board.

• Presentation by David Richardson, Treasurer/Comptroller.

5. Presentation on LSC's Financial Reports for the first six months of FY 2007.

• Presentation by David Richardson, Treasurer/Comptroller.

• Presentation by Kirt West, Inspector General.

• Comments by Charles Jeffress, Chief Administrative Officer.

6. Financial Reporting to the Finance Committee

• Mike McKay, Chair, Finance Committee.

7. Report on FY 2008 appropriations process.

• Presentation by Charles Jeffress, Chief Administrative Officer.

8. Consider and act on other business.

9. Public comment.

Board of Directors

Agenda

Open Session

1. Approval of agenda.

2. Approval of minutes of the Board's meeting of January 20, 2007.

3. Approval of minutes of the Executive Session of the Board's meeting of January 20, 2007.

4. Chairman's Report.

5. Members' Reports.

6. President's Report.

7. Inspector General's Report.

8. Consider and act on the report of the Provision for the Delivery of Legal Services Committee.

9. Consider and act on the report of the Finance Committee.

10. Consider and act on the report of the Operations & Regulations Committee.

11. Consider and act on the report of the Performance Reviews Committee.

12. Consider and act on scheduling of a telephonic meeting of the Board for 2 p.m. (EDT) on May 29, 2007, for the purpose of taking up the IG's Semiannual Report to Congress for the six-month period ending April 30, 2007.

13. Consider and act on other business.

14. Public comment.

15. Consider and act on whether to authorize an executive session of the Board to address items listed below under Closed Session.

Closed Session

16. Consider and act on General Counsel's report on potential and pending litigation involving LSC.

17. IG report to the Board.

18. Consider and act on motion to adjourn meeting.

Contact Person for Information: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: April 17, 2007.
Victor M. Fortuno,
Vice President for Legal Affairs, General Counsel & Corporate Secretary.

[FR Doc. 07-1980 Filed 4-17-07; 2:35 pm]

BILLING CODE 7050-01-P